DEPARTMENT OF THE TREASURY

United States Mint

Notification of United States Mint American Legacy Collection® Price

ACTION: Notification of United States Mint American Legacy Collection® Price.

SUMMARY: The United States Mint is setting the price for its 2008 United States Mint American Legacy Collection.

In accordance with 31 U.S.C. 9701(b)(2)(B), the United States Mint is establishing the price of this set to reflect the content of the set, production costs, and other relevant factors.

Therefore, effective October 27, 2008, the United States Mint will commence selling the 2008 United States Mint American Legacy Collection at $100.00.

FOR FURTHER INFORMATION CONTACT: Andrew Brunhart, Deputy Director; United States Mint; 801 Ninth Street, NW.; Washington, DC 20220; or call 202-354-7200.

Dated: October 3, 2008.
Edmund C. Moy,
Director, United States Mint.

[FR Doc. E8-24150 Filed 10-9-08; 8:45 am]

BILLING CODE 4810-02-P